DEPARTMENT OF HEALTH AND HUMAN SERVICES

Centers for Disease Control and Prevention

[60Day-13-13RQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community Transformation Grants (CTG) Context Scan Surveys—New—National Center for Chronic Disease Prevention and Health Promotion (NCCDPHP), Centers for Disease Control and Prevention (CDC).

Background and Brief Description

Obesity currently affects more than one-third of adults and approximately 17 percent of children in the United States. Obese children and teens are likely to remain so into adulthood, and are at risk for developing severe health conditions such as heart disease, type 2 diabetes, stroke, and certain cancers. As one of the most dire and fastest growing health-related problems, obesity prevention has become a public health priority.

Physical activity and dietary behaviors are known to impact obesity. Importantly, research has shown that these behaviors are impacted by community-level factors (social determinants of health) such as place of residence, access to healthy/unhealthy food, availability of walkable environments, and opportunities to be physically active. Thus, one promising strategy to address nutrition and physical activity is through policy and environmental improvements in settings such as schools, childcare centers, and workplaces.

Given the high proportion of children enrolled, and the substantial amount of time children spend in schools and childcare centers, these settings are natural targets for policy and environment changes to improve nutrition and physical activity. CDC and others have recommended strategies to decrease sedentary time, increase the quantity and quality of physical activity, improve nutrition standards, and decrease the availability of less healthy foods. Numerous governmental and non-governmental initiatives are underway to support improved policies and environments, but little is known about the barriers and facilitators to this work, and the overall community context in which these initiatives are occurring.

In fiscal year 2011, the Patient Protection and Affordable Care Act (ACA) funded the Community Transformation Grants (CTG) Program (CDC-RFA-DP11-1103PPHF11) to address the root causes of chronic disease. CTG grants were awarded to state and local governments, tribes and territories, and nonprofit organizations to help individuals lead healthier lives. As mandated by the ACA, CDC is conducting a national evaluation of the CTG Program that includes the following components: (1) Local Evaluation, (2) Performance Monitoring, (3) Population-level Surveillance, (4) Enhanced Evaluation Studies, (5) Cost Studies, (6) Simulation Modeling, and (7) Context Scan (policy and community characteristics).

The Context Scan will capture information on social determinants within communities, such as population density, community resources for active living and health eating, and nutrition and physical activity policies and environments in middle schools and childcare centers. It will include (1) Examining policies and environments in school and childcare settings (including review of school and childcare policies and administration of the Context Scan Surveys); (2) examining policies and environments in the community (including review of policies addressing the nutrition and built environments and observation of public food environments such as grocery and convenience stores) and (3) extraction of data from the U.S. Bureau of the Census, U.S. Department of Agriculture (USDA), and other publically available data sources.

The Context Scan Surveys will employ longitudinal data collection to document and monitor changes in nutrition and physical activity policies and environments in childcare centers and middle schools over time. The surveys will be implemented once per year over a four-year period with childcare center directors, middle school principals, and school food service personnel. A three-year Office of Management and Budget (OMB) clearance period is requested to support the first three years of the data collection.

The surveys include the (1) Childcare Center Nutrition and Physical Activity Survey (CCNPAS), (2) School Principal Nutrition and Physical Activity Survey (SPNPAS), and (3) School Food Service Nutrition Survey (SFSNS). A mixed-mode methodology will be used to recruit respondents; schools and centers will be identified from publically available lists.

The specific aims of the Context Scan Surveys, and related evaluation questions, are as follows:

A. Document policies and environments related to nutrition and physical activity in middle schools and childcare centers located in 20 CTG awardees.

1. Evaluation Question 1: What are the policies and environments related to nutrition and physical activity in middle schools?

2. Evaluation Question 2: What are the policies and environments related to nutrition and physical activity in childcare centers?

B. Monitor changes in policies and environments related to nutrition and physical activity in childcare centers and middle schools over time.

1. Evaluation Question 3: How do policies and environments related to nutrition and physical activity in middle schools change over time within and across awardees?

2. Evaluation Question 4: How do policies and environments related to nutrition and physical activity in childcare centers change over time within and across awardees?

The 20 CTG awardees selected for this study were identified based on their commitment to implementing comprehensive active living and healthy eating interventions and the diverse geographic and demographic contexts within their communities.

The study universe for these 20 communities includes 970 public middle schools and 4,362 licensed childcare centers in 871 intervention area zip codes. The study design will adopt implicit stratification coupled with probability proportional to size (PPS) systematic sampling with zip code areas serving as primary sampling units. The measure of size for PPS sampling will be the number of childcare centers in each zip code area and the resulting sample size will consist of 120 zip codes.

Participation in the surveys is voluntary. There are no costs to respondents other than time. The surveys will be hosted by the secure online survey-hosting site, Survey Monkey. All surveys will be Web-based, with paper options available as needed. Data from the Context Scan Surveys will provide the CDC with the ability to track policy and environment change over time across and within communities. When combined with other Context Scan and CTG national evaluation datasets, the Context Scan Survey data will provide a comprehensive understanding of the community environments in which CTG interventions are occurring, an evidence-base for policy and environmental change strategies to promote healthy eating and active lifestyles, and an identification of the factors that facilitate and inhibit policy and environmental initiatives.

The estimated burden for each survey response is 15 minutes. Pilot tests were performed to inform burden estimates and ensure relevance of questions to respondents.

Estimated Annualized Burden Hours

Type of respondents | Form name | Number of respondents | Number of responses per respondent | Avgerage burden per response (in hrs) | Total burden (in hrs)
Childcare center directors | CCNPAS | 760 | 1 | 15/60 | 190
Middle school principals | SANPAS | 738 | 1 | 15/60 | 185
School food service personnel | SFSNS | 738 | 1 | 15/60 | 185
Total |  |  |  |  | 560

Ron A. Otten,
Director, Office of Scientific Integrity, Office of the Associate Director for Science, Office of the Director, Centers for Disease Control and Prevention.

[FR Doc. 2013-10130 Filed 4-29-13; 8:45 am]

BILLING CODE 4163-18-P